CONSUMER PRODUCT SAFETY COMMISSION

Sunshine Act Meeting Notice

TIME AND DATE: Tuesday, May 6, 2014, 10:30 a.m.-12:30 p.m.

PLACE: Hearing Room 420, Bethesda Towers, 4330 East West Highway, Bethesda, Maryland.

STATUS: Commission Meeting—Open to the Public.

Matter To Be Considered: Decisional Matter: FY 2014 Midyear Review and Proposed Operating Plan Adjustments.

A live Webcast of the Meeting can be viewed at www.cpsc.gov/live.

For a recorded message containing the latest agenda information, call (301) 504-7948.

FOR FURTHER INFORMATION CONTACT: Todd A. Stevenson, Office of the Secretary, U.S. Consumer Product Safety Commission, 4330 East West Highway, Bethesda, MD 20814, (301) 504-7923.

Dated: May 2, 2014.
Todd A. Stevenson,
Secretary.

[FR Doc. 2014-10499 Filed 5-5-14; 11:15 am]

BILLING CODE 6355-01-P